NATIONAL AERONAUTICS AND SPACE ADMINISTRATION

[Notice: (13-140)]

NASA Advisory Council; Meeting

AGENCY: National Aeronautics and Space Administration.

ACTION: Notice of Meeting.

SUMMARY: In accordance with the Federal Advisory Committee Act, Public Law 92-463, as amended, the National Aeronautics and Space Administration announces a meeting of the NASA Advisory Council (NAC).

DATES: Wednesday, December 11, 2013, 1:00 p.m.-5:15 p.m., Local Time; and Thursday, December 12, 2013, 9:00 a.m.-4:00 p.m., Local Time.

ADDRESSES: NASA Kennedy Space Center, Headquarters Building, Room 2201, Kennedy Space Center, FL 32899.

FOR FURTHER INFORMATION CONTACT: Ms. Marla King, NAC Administrative Officer, NASA Headquarters, Washington, DC 20546, (202) 358-1148.

SUPPLEMENTARY INFORMATION: The agenda for the meeting will include the following topics:

—Aeronautics

—Audit, Finance and Analysis

—Education and Public Outreach

—Human Exploration and Operations

—Information Technology Infrastructure

—Science

—Technology and Innovation

This meeting is also available telephonically and by WebEx. You must use a touch tone phone to participate in this meeting. Any interested person may dial the toll free access number 866-753-1451 or toll access number 1-203-875-1553, and then the numeric participant passcode: 6957984 followed by the # sign. To join via WebEx, the link is https://nasa.webex.com/, meeting number is 996 148 277, and password: NACdec2013! (Password is case sensitive).

Note: If dialing in, please “mute” your telephone.

The meeting will be open to the public up to the seating capacity of the room. Seating will be on a first-come basis. Attendees will be required to sign a visitor's register and to comply with NASA security requirements, including the presentation of a valid picture ID, before receiving an access badge. All U.S. citizens desiring to attend the this meeting at the Kennedy Space Center must provide their full name, company affiliation (if applicable), driver's license number and state, citizenship, place of birth, and date of birth to the Kennedy Space Center Protective Services Office no later than close of business on December 5, 2013. All non-U.S. citizens must submit their name; current address; driver's license number and state (if applicable); citizenship; company affiliation (if applicable) to include address, telephone number, and title; place of birth; date of birth; U.S. visa information to include type, number, and expiration date; U.S. Social Security Number (if applicable); Permanent Resident (green card) number and expiration date (if applicable); place and date of entry into the U.S.; and passport information to include country of issue, number, and expiration date, to the Kennedy Space Center Protective Services Office no later than close of business on December 5, 2013. If the above information is not received by the noted dates, attendees should expect a minimum delay of two (2) hours. All visitors to this meeting will be required to process in through the KSC Badging Office, Building M6-0224, located just outside of KSC Gate 2, on SR 405, Kennedy Space Center, Florida. Please provide the appropriate data required above by email to Tina Hosch at TINA.HOSCH@NASA.GOV or fax 321-867-7206, noting at the top of the page “Public Admission to the NASA Advisory Council at KSC.” For security questions, please email Tina Hosch at TINA.HOSCH@NASA.GOV. All visitors will be escorted while attending the meeting at Kennedy Space Center. All visitors will board a bus at the Kennedy Space Center Badging Office for transportation to and from the meeting.

It is imperative that the meeting be held on this date to accommodate the scheduling priorities of the key participants.

Note: In accordance with Section 102-3.150(b) of Part II General Services Administration (GSA) Federal Advisory Committee Management: Final Rule (41 CFR Parts 101-6 and 102-3), dated Thursday, July 19, 2001, this meeting is being held with less than 15 days' notice due to exceptional circumstances and scheduling constraints associated with the decision on November 25, 2013 to reorganize the NASA Advisory Council.

Patricia D. Rausch,
Advisory Committee Management Officer, National Aeronautics and Space Administration.

[FR Doc. 2013-28890 Filed 12-2-13; 8:45 am]

BILLING CODE 7510-13-P